DEPARTMENT OF AGRICULTURE

Animal and Plant Health Inspection Service

[Docket No. APHIS-2012-0095]

Notice of Request for Extension of Approval of an Information Collection; Submission of Itineraries

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the submission of itineraries by exhibitors under the Animal Welfare Act regulations.

DATES: We will consider all comments that we receive on or before February 11, 2013.

ADDRESSES: You may submit comments by either of the following methods:

• Federal eRulemaking Portal: Go to http://www.regulations.gov/#!documentDetail;D=APHIS-2012-0095-0001.

• Postal Mail/Commercial Delivery: Send your comment to Docket No. APHIS-2012-0095, Regulatory Analysis and Development, PPD, APHIS, Station 3A-03.8, 4700 River Road Unit 118, Riverdale, MD 20737-1238.

Supporting documents and any comments we receive on this docket may be viewed at http://www.regulations.gov/#!docketDetail;D=APHIS-2012-0095 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information regarding the regulations for the submission of itineraries, contact Dr. Barbara Kohn, Senior Staff Veterinarian, AC, APHIS, 4700 River Road Unit 84, Riverdale, MD 20737-1236; (301) 851-3751. For copies of more detailed information on the information collection, contact Mrs. Celeste Sickles, APHIS' Information Collection Coordinator, at (301) 851-2908.

SUPPLEMENTARY INFORMATION: Title: Animal Care; Submission of Itineraries.

OMB Number: 0579-0361.

Type of Request: Extension of approval of an information collection.

Abstract: The Animal Welfare Act (AWA) (7 U.S.C. 2131 et seq.) authorizes the Secretary of Agriculture to promulgate rules and standards and other requirements governing the humane handling, housing, care, treatment, and transportation of certain animals by dealers, exhibitors, and other regulated entities. The Secretary of Agriculture has delegated the responsibility for enforcing the AWA to the Animal and Plant Health Inspection Service (APHIS).

Regulations and standards established under the AWA are contained in 9 CFR parts 1, 2, and 3. The regulations in 9 CFR part 2 establish certain responsibilities of regulated persons under the AWA. These responsibilities include requirements for the licensing and registration of dealers, exhibitors, and research facilities, standards for veterinary care, identification of animals, and recordkeeping. APHIS requires licensees or registrants who intend to exhibit animals away from their approved sites to submit itineraries in accordance with § 2.126 of the regulations.

On October 1, 2009 (74 FR 50738-50740, Docket No. APHIS-2006-0023), APHIS proposed to amend § 2.126 to require that any exhibitor who is subject to the AWA regulations (including, but not limited to, circuses, traveling educational exhibits, animal acts, and petting zoos), and who intends to exhibit any animal at any location other than the person's approved site, must submit a written itinerary to the Animal Care (AC) Regional Director. Under the proposed rule, the AC Regional Director would have to receive the itinerary by email or facsimile no fewer than 2 days in advance of any travel and must include the following:

• The name of the person who intends to exhibit the animal and transport the animal for exhibition purposes, including any business name and current AWA license or registration number and, in the event that any animal is leased, borrowed, loaned, or under some similar arrangement, the name of the person who owns such animal;

• The name, identification number or identifying characteristics, species (common or scientific name), sex, and age of each animal; and

• The names, dates, and locations (with addresses), where the animals will travel, be housed, and be exhibited, including all anticipated dates and locations (with addresses) for any stops and layovers.

These information collection activities were provided initial approval by the Office of Management and Budget (OMB) under control number 0579-0361.

APHIS received comments on the proposed itinerary requirements and will be addressing those comments and any possible changes to the requirements, based on those comments, in the final rule. However, the initial approval for this information collection will expire on February 28, 2013.

We are asking OMB to extend approval of the submission of itineraries for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of Burden: The public reporting burden for this collection of information is estimated to average 0.25 hours per response.

Respondents: Exhibitors.

Estimated Annual Number of Respondents: 300.

Estimated Annual Number of Responses per Respondent: 8.66.

Estimated Annual Number of Responses: 2,600.

Estimated Total Annual Burden on Respondents: 650 hours. (Due to averaging, the total annual burden hours may not equal the product of the annual number of responses multiplied by the reporting burden per response.)

All responses to this notice will be summarized and included in the request for OMB approval. All comments will also become a matter of public record.

Done in Washington, DC, this 7th day of December 2012.
Kevin Shea,
Acting Administrator, Animal and Plant Health Inspection Service.

[FR Doc. 2012-30130 Filed 12-12-12; 8:45 am]

BILLING CODE 3410-34-P